DEPARTMENT OF ENERGY

Federal Energy Regulatory Commission

[Docket No. CP01-49-000]

Northwest Pipeline Corporation; Notice of Site Visit

March 21, 2001.

On Tuesday, April 3, 2001, the Office of Energy Projects (OEP) staff will inspect Northwest Pipeline Corporation's (Northwest) proposed route and potential alternative routes for the Everett Delta Project in Snohomish County, Washington. The project area will be inspected by automobile and on foot, as appropriate. The site visit will start at 8 a.m. at the Embassy Suites Hotel lobby at 20610 44th Avenue W., Lynnwood, Washington. Representatives of Northwest will accompany the OEP staff.

All interested parties may attend. Those planning to attend must provide their own transportation.

On the day of the site visit, the OEP staff can be reached at (202) 255-3195. For additional information before the visit, contact Douglas Sipe of the Commission's Office of Energy Projects at (202) 219-2681.

David P. Boergers,
Secretary.

[FR Doc. 01-7456 Filed 3-23-01; 8:45 am]

BILLING CODE 6717-01-M